FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

A & A Export Inc. (NVO & OFF), 5930 NW. 99th Avenue, Suite #1, Doral, FL 33178, Officers: Gustavo E. Fuentes, President/Secretary (Qualifying Individual), Osmania Fuentes, Vice President/Treasurer Application Type: New OFF & NVO License.

AA Equipment and Sales, LLC dba AIM Global Logistics (NVO & OFF), 6402 Teluco Street, Houston, TX 77055, Officer: Angelica Garcia-Dunn, Manager/President/Treasurer (Qualifying Individual), Application Type: New OFF & NVO License.

Aduanair Cargo & Courier Corp. (NVO & OFF), 5900 NW. 99th Avenue, Suite #6, Doral, FL 33178, Officers: Anamar Del Castillo, President/Secretary (Qualifying Individual), Application Type: New NVO & OFF License.

Alpha Marine, Inc. (OFF), 7375 Greenbush Avenue, North Hollywood, CA 91605, Officer: Yariv Grinberg, President (Qualifying Individual), Application Type: New OFF License.

Alto Container Line, Inc. (NVO), 2867 Surveyor Street, Pomona, CA 91768, Officers: Whyee-nen Shao, Vice President of Operations (Qualifying Individual), Alfred R. Garcia, Dir./Chairman/Pres./CFO/Sec., Application Type: QI Change.

A R O Cargo Services, Inc. (NVO & OFF), 5122 Skillman Avenue, Suite 2R, Woodside, NY 11377, Officer: Olga Manrique, President (Qualifying Individual), Application Type: Add NVO Service.

Arrow Shipping Line Inc. (NVO), 167-14 146th Road, 2nd Floor, Jamaica, NY 11434, Officer: Po Shan Wong, President/VP/Sec./Treasurer (Qualifying Individual), Application Type: New NVO License.

Asecomer International Corporation dba Interworld Freight, Inc. (NVO), 8225 NW. 80th Street, Miami, FL 33166, Officer: John O. Crespo, President (Qualifying Individual), Application Type: Trade Name Change.

Ashimiyu Alowonle dba Classique Companies (NVO & OFF), 6001 Loneoak Road, #2, Rockford, MN 55373, Officer: Ashimiyu Alowonle, Sole Proprietor (Qualifying Individual), Application Type: New OFF & NVO License.

Baggio, Inc. (NVO & OFF), 150 SE. 2nd Avenue, #1010, Miami, FL 33131, Officers: Lucio D'Isep, Secretary (Qualifying Individual), Paolo Baggio, President, Application Type: New NVO & OFF License.

BDJ Freight, Inc. dba Profound Freight Inc. (NVO), 2113 Treeridge Circle, Brea, CA 92821, Officer: Jenny J. Yang, Director/Chairman/Secretary (Qualifying Individual), Application Type: Name Change.

BestOcean Worldwide Logistics, Inc. (NVO & OFF), 1300 Valley Vista Drive, Suite 203, Diamond Bar, CA 91765, Officers: Ivy Zheng, Corporate Secretary (Qualifying Individual), Yan Yang, CEO, Application Type: New NVO & OFF License.

Beyond Shipping, Inc. (NVO), 2000 Silver Hawk Drive, #2, Diamond Bar, CA 91765, Officer: Yilin Yang, President/Secretary/CFO (Qualifying Individual), Application Type: New NVO License.

Capito Enterprises, Inc. (NVO & OFF), 190 Ellis Road, Lake in the Hills, IL 60156, Officers: Rizalina D. Capito, President/Treasurer (Qualifying Individual), Rosette Capito, Vice President, Application Type: Add OFF Service.

Caterpillar Logistics Inc. (OFF), 500 N. Morton Avenue, Morton, IL 61550, Officers: Julia Slovak, Assistant Secretary (Qualifying Individual), Stephen P. Larson, President, Application Type: New OFF License.

Caterpillar Logistics Services LLC (OFF), 500 N. Morton Avenue, Morton, IL 61550, Officers: Michelle L. Wahrenburg, Assistant Secretary (Qualifying Individual), Stephen P. Larson, President, Application Type: Business Structure Change.

Crowley Caribbean Logistics, LLC (NVO & OFF), Rd 165, KM 2.4, Edif 13, Guaynabo, PR 00970, Officers: John G. Smith, OTI Compliance Officer (Qualifying Officer), John P. Hourihan, Sr. Vice President/Manager, Application Type: New NVO & OFF License.

CLX Holdings Inc. (NVO), 61-15 98th Street, Suite 14H, Rego Park, NY 11374, Officers: James White, Vice President (Qualifying Individual), Ganesh Parab, President, Application Type: New NVO License.

Coast to Coast Air Inc. (NVO & OFF), 2951 W. King Street, Cocoa, FL 32926, Officers: Gregory C. Jennings, Vice President (Qualifying Individual), Grover C. Jennings, President, Application Type: New NVO & OFF).

CTS Global Logistics (Georgia) Inc. dba CTS Global Supply Chain Solutions (NVO & OFF), 5192 Southridge Parkway, Suite 117, Atlanta, GA 30349, Officers: Angela Sturdivant, Vice President (Qualifying Individual), Kangzhen Yin (John Ing), Director/President/Treasurer, Application Type: QI Change.

Cyclone Shipping, Inc. (NVO), 233 Masters Court, Unit 4, Walnut Creek, CA 94598, Officer: Eric Bailey, President/Secretary/Treasurer (Qualifying Individual), Application Type: New NVO License.

Echo Trans World Inc. (NVO), 462 7th Avenue, 14th Floor, New York, NY 10018, Officer: Moshe Greenwald, President/Secretary (Qualifying Individual), Application Type: QI Change.

Elite Freight Forwarders Inc. (OFF), 24 Commerce Street, Suite 1428, Newark, NJ 07102, Officer: Percival Bramble, President/Secretary/Treasurer (Qualifying Individual), Application Type: New OFF License.

Excom USA Inc. (OFF), 10300 W. McNab Road, Tamarac, FL 33327, Officers: Maria S. Oliveira, President/Secretary (Qualifying Individual), Dercilio F. Oliveira, Vice President, Application Type: New OFF License.

Fachel International LLC dba Fachel Shipping and Logistics (NVO & OFF), 2400 Gainsborough Court, #D, Parkville, MD 21234, Officers: Shelia J. Worley, Treasurer (Qualifying Individual), Famous I. Osasuyi, Manager, Application Type: New NVO & OFF License.

Forward System Logistics Inc. (NVO), 144-54 156th Street, Jamaica, NY 11434, Officers: Victor Leung, Secretary (Qualifying Individual), Jerry Lo, President/Treasurer, Application Type: QI Change.

G & G Global Sales, Inc. (OFF), 134 Park Drive, East Stroudsburg, PA 18302 Officers: Rachelle P. Gonzalo, President (Qualifying Individual), Jesse D. Gonzales, Vice President, Application Type: Business Structure Change.

GSN Worldwide Logistics LLC (NVO & OFF), 55 Carter Drive, Suite 209, Edison, NJ 08817, Officer: Rajiv Jaidka, President (Qualifying Individual), Application Type: Add OFF Service.

Herve Balladur International S.A., Corp. dba HBI America (NVO), Saumaty Seon Business Park, 45 Avenue Andre Roussin BP 3, 13321 Marseilles Cedex 16, France, Officers: Herve Balladur, President/Director (Qualifying Individual), Isabelle Balladur, Vice President, Application Type: New NVO License.

International Movers Network Inc. (NVO), 70-20 73rd Street, Glendale, NY 11385, Officers: Or Zohar, Director/President (Qualifying Individual), Gal Zohar, Secretary/Treasurer, Application Type: New NVO License.

Jaguar Logistics, Inc. (NVO & OFF), 10813 NW. 30th Street, Suite 110-B, Doral, FL 33172, Officers: Becxi Santos, Director (Qualifying Individual), Omar A. Esper, President, Application Type: New NVO & OFF License.

Kloosterboer International Forwarding, LLC (NVO & OFF), 2025 First Avenue, Suite 1205, Seattle, WA 98121, Officers: Matthew Darbous, Vice President—Operations (Qualifying Individual), Steve Abernathy, President, Application Type: Name Change & QI Change.

Logikor Inc. (NVO), 320 Pinebush Road, Cambridge, ON N1T1Z6 Canada, Officers: Rick Morgan, Director (Qualifying Individual), Darryl J. King, CEO/Treasurer, Application Type: New NVO License.

Logistic's World LLC (NVO & OFF), 29 Island Trail, Mount Sinai, NY 11776, Officer: Iffat Furoogh, Member (Qualifying Individual), Application Type: New NVO & OFF License.

M & D Global Logistics, Inc. (NVO), 2211 S. Hacienda Blvd., Suite 200D, Hacienda Heights, CA 91745, Officers: Jeffrey Wu, Treasurer/CFO/Director (Qualifying Individual), Bofei Zhang, Director/President/CEO, Application Type: New NVO License.

M Forwarder, LLC (NVO), 161-15 Rockaway Blvd., Suite 209, Jamaica, NY 11434, Officers: Dong Wen Lee, Partner (Qualifying Individual), Rick C. Ma, Partner, Application Type: New NVO License.

Master Polo Logistics Corporation (NVO & OFF), 8544 NW. 93rd Street, Medley, FL 33166, Officers: Leonardo Capra, Director (Qualifying Individual), Luciano Menezes, Director, Application Type: New NVO & OFF License.

Meiko America, Inc. (OFF), 19600 Magellan Drive, Torrance, CA 90502, Officers: Michael R. Sole, Vice President (Qualifying Individual), Application Type: QI Change.

National Air Cargo, Inc. (OFF), 350 Windward Drive, Orchard Park, NY 14127, Officers: Peter W. Cheviot, Managing Director (Qualifying Individual), Preston G. Murray, President/CEO, Application Type: New OFF License.

NGL International, LLC (OFF), 2121 Abbott Road, Suite 202, Anchorage, AK 99507, Officers: Raymond Donahue, Executive Vice President (Qualifying Individual), John Witte, Member, Application Type: New OFF License.

NK America, Inc. dba Global Logistics by NK America, Inc. (NVO & OFF), 777 S. Kuther Road, Sidney, OH 45365, Officers: Bruce Hetzler, Vice President (Qualifying Individual), Hiroshi Sakairi, President, Application Type: Trade Name Change.

Oceane Cargo Link, LLC (NVO & OFF), 4851 Georgia Highway 85, #102, Forest Park, GA 30297, Officer: Kingston Ansah, President/Secretary/CFO (Qualifying Individual), Application Type: New NVO & OFF License.

Oceania Logistics Inc. (NVO), 131-37 41st Avenue, Suite 2B, Flushing, NY 11355, Officers: Jian Ying Du, Vice President (Qualifying Individual), Shu Wang, President, Application Type: New NVO License.

Oceanic Cargo Transportation Inc (NVO), 3144 E. Garvey Avenue South, West Covina, CA 91791, Officers: Catalina Ricard, Secretary (Qualifying Individual), Alexis Palacio, CEO, Application Type: New NVO License.

Pactrans Global, LLC (NVO & OFF), 951 Thorndale Avenue, Bensenville, IL 60106, Officers: Alexander F. Pon, Member/Manger (Qualifying Individual), Ketty Y. Pon, Member/Manager, Application Type: New NVO & OFF License.

PMC Maritime Inc. (NVO), 2955 W. Academy Avenue, Anaheim, CA 92804, Officer: Po Y. Chan, President/Secretary/Treasurer/Director (Qualifying Individual), Application Type: New NVO License.

Promise Lines, Inc (NVO & OFF), 9225 Brandy Lane, #C, Laurel, MD 20723, Officers: Doreen Oloo-Dale, President (Qualifying Individual), Anthony Dale, Vice President, Application Type: New NVO & OFF License.

Seagull Maritime Agencies Private Limited (NVO), F-35/3, Okhla Industrial Area, Phase II, New Delhi-110020 India, Officers: Parveen Mehta, Vice President-Ocean Transportation (Qualifying Individual), Rajeev Chopra, President/Secretary, Application Type: QI Change.

Senko (U.S.A.) Inc. (NVO & OFF), 770 Arthur Avenue, Elk Grove Village, IL 60007, Officers: Kenji Mori, Executive Vice President (Qualifying Individual), Akira Morikawa, Director/President, Application Type: Add NVO Service.

Sky & Sea Ka Wah Logistics Inc. (NVO & OFF), 4007 Ellesford Avenue, West Covina, CA 91792, Officers: Jie Qing (A.K.A. Jay) Huang, Secretary (Qualifying Individual), Wendy Lou, President, Application Type: New NVO & OFF.

South Cargo LLC (OFF), 8337 NW. 66th Street, Miami, FL 33166, Officers: Jenny R. Contreras, Manager (Qualifying Individual), Jesus Aznar, Manager, Application Type: New OFF License.

Supreme International Ltd. (NVO & OFF), 2100 Sibley Blvd., Suite 11, Calumet City, IL 60409, Officer: Bosun Dominic, President/CEO (Qualifying Individual), Application Type: Add OFF Service.

Thuan Loi Shipping (NVO), 7771 Garvey Avenue, #D, Rosemead, CA 91770, Officer: Stacy Duong, President (Qualifying Individual), Application Type: New NVO License.

TOC Logistics International, LLC (NVO & OFF), 2629 Waterfront Parkway E. Drive, #380, Indianapolis, IN 46214, Officers: Gurjeet S. Srao, Vice President International (Qualifying Individual), Gary Cardenas, CEO/President, Application Type: New NVO & OFF License.

Trade Bridge Logistics, Inc. (NVO & OFF), 103 N. 13th Street, Brooklyn, NY 11249, Officers: Hong (Irene) Shi, President (Qualifying Individual), Baozhu Wu, Secretary, Application Type: New NVO & OFF License.

Transpacific Line, Inc. (NVO), 202-09 43rd Avenue, B4, Bayside, NY 11361, Officers: Liwai Liu, President (Qualifying Individual), Diana Kim, Vice President, Application Type: New NVO License.

Tri-Coast Shipping & Logistics, L.L.C. (NVO & OFF), 19403 Glade Water Drive, Tomball, TX 77375, Officers: Donald B. Rawlings, Manager (Qualifying Individual), Julie Barnhart, Member/Manager/Secretary/Treasurer, Application Type: New NVO & OFF License.

Turamco Lines, Inc. (NVO & OFF), 120 Ocean Parkway, Suite 4-H, Brooklyn, NY 11218, Officers: Esra Alpay, Vice President (Qualifying Individual), Hayrettin Cevher, President/CEO/Secretary/Treasurer, Application Type: New NVO & OFF License.

United Transport Services, Corp. (NVO), 6947 NW. 82nd Avenue, Miami, FL 33166, Officers: Oscar Nova, Director of Operations (Qualifying Individual), Augusto Villegas, President, Application Type: New NVO License.

Unity Holdings, Inc. (NVO), 2860 W. State Road 84, Suite 118, Dania Beach, FL 33312, Officers: Howard Shiman, Secretary (Qualifying Individual), Dennis Cummings, President, Application Type: New NVO License.

Universal Pacific Enterprises, Inc. (NVO & OFF), 15061 Tribute Way, Bakersfield, CA 93314, Officers: Justin L. Gonzalez, President (Qualifying Individual), Sally Gonzalez, Vice President/Secretary/CFO, Application Type: New NVO & OFF License.

Vilkon N.A., Inc. (OFF), 19550 International Blvd., #301, Seatac, WA 98188, Officers: Genadij Solovjov, Vice President (Qualifying Individual), Konstantin Kobrianov, President, Application Type: New OFF License.

Vista Global Container, Inc. (NVO), 115 North Main Street, Algonquin, IL 60031, Officer: Jeffrey P. Ozburn, President (Qualifying Individual), Application Type: New NVO License.

W8 Shipping LLC (OFF), 8 Aviation Court, Savannah, GA 31408, Officers: Darius Ziulpa, Member (Qualifying Individual), Gediminas Garmus, Member/Manager, Application Type: New OFF License.

Watercraft Mix, Inc. dba Export Depot (NVO & OFF), 4380 E. 11th Avenue, Hialeah, FL 33013, Officers: Nathalie Rioz, Secretary (Qualifying Individual), Dmitry Poyarkov, President/Treasurer, Application Type: New NVO & OFF License.

Weida Freight System, Inc. (NVO), 5341 West 104th Street, Los Angeles, CA 90045, Officers: Andre S. Carvalho, Secretary (Qualifying Individual), Victor Y. Wei, Director/President/CEO, Application Type: New NVO License.

World Connections, Inc. (OFF), 8380 Isis Avenue, Los Angeles, CA 90045, Officers: Edwin Marfil, President (Qualifying Individual), Danielle Marfil, CFO, Application Type: QI Change.

Worldwide Freight Logistics Corp. (NVO), 9222 NW. 101 Street, Medley, FL 33178, Officers: Heriberto Sanchez, President (Qualifying Individual), Roxana Sanchez, CEO, Application Type: New OFF License.

Dated: September 2, 2011.
Rachel E. Dickon,
Assistant Secretary.

[FR Doc. 2011-23056 Filed 9-8-11; 8:45 am]

BILLING CODE 6730-01-P